OFFICE OF PERSONNEL MANAGEMENT

Proposed Collection; Comment Request for Review of an Emergency Information Collection: Customer Satisfaction Survey

AGENCY: Office of Personnel Management.

ACTION: Notice.

SUMMARY: In accordance with the Paperwork Reduction Act of 1995 (Pub. L. 104-13, May 22, 1995), this notice announces that the Office of Personnel Management (OPM) will submit to the Office of Management and Budget a request for review of an emergency information collection. The Customer Satisfaction Survey will be used to survey the contractors of the Defense Finance and Accounting Service (DFAS). The collection of this information is authorized by 5 U.S.C. 4703. The purposes are to identify DFAS's strengths and areas for improvement, and to provide an opportunity for DFAS's customers to communicate their needs. Approximately 6,000 surveys will be distributed. Each survey takes approximately 10 minutes to complete. We expect 1,800 responses for an annual burden of 300 hours.

Comments are particularly invited on:

—whether this collection of information is necessary for the proper performance of DFAS, and whether it will have practical utility;

—whether our estimate of the public burden of this collection is accurate, and based on valid assumptions and methodologies; and

—ways in which we can minimize the burden of the collection of information on those who are to respond, through the use of appropriate technological collection techniques or other forms of information technology.

For copies of this proposal, contact Mary Beth Smith-Toomey on (202) 606-8358, or e-mail mbtoomey@opm.gov.

DATES: Comments on this proposal should be received on or before April 27, 2001.

ADDRESSES: Send or deliver comments to:

Donna J. Gregory, Assistant Director, Personnel Resources and Development Center, U.S. Office of Personnel Management, 1900 E Street, NW, Room 6500, Washington, DC 20415

and

Joseph Lackey, OPM Desk Officer, Office of Information and Regulatory Affairs, Office of Management and Budget, New Executive Office Building, NW, Room 10235, Washington, DC 20503

Office of Personnel Management.
Steven R. Cohen,
Acting Director.

[FR Doc. 01-9477 Filed 4-16-01; 8:45 am]

BILLING CODE 6325-38-P